ENVIRONMENTAL PROTECTION AGENCY

40 CFR Part 52

[IN133-1a; FRL-6990-1]

Approval and Promulgation of Implementation Plans; Indiana

AGENCY: Environmental Protection Agency (EPA).

ACTION: Direct final rule.

SUMMARY: The EPA is approving revisions to the particulate matter (PM) regulations for Rolls-Royce Allison (Rolls-Royce), formerly Allison Engine Company. This facility is located in Marion County, Indiana. The Indiana Department of Environmental Management (IDEM) submitted the revised regulation on August 31, 2000 as a requested amendment to its State Implementation Plan (SIP). The revisions consist of a name change for the company and the addition of an alternate fuel. These requested SIP revisions do not change Rolls-Royce's emissions limits.

DATES: This rule is effective on August 13, 2001, unless the EPA receives relevant adverse written comments by July 12, 2001. If adverse comment is received, the EPA will publish a timely withdrawal of the rule in the Federal Register and inform the public that the rule will not take effect.

ADDRESSES: You should mail written comments to: J. Elmer Bortzer, Chief, Regulation Development Section, Air Programs Branch (AR-18J), U.S. Environmental Protection Agency, Region 5, 77 West Jackson Boulevard, Chicago, Illinois 60604.

You may inspect copies of Indiana's submittal at: Regulation Development Section, Air Programs Branch (AR-18J), U.S. Environmental Protection Agency, Region 5, 77 West Jackson Boulevard, Chicago, Illinois 60604.

FOR FURTHER INFORMATION CONTACT: Matt Rau, Environmental Engineer, Regulation Development Section, Air Programs Branch (AR-18J), U.S. Environmental Protection Agency, Region 5, 77 West Jackson Boulevard, Chicago, Illinois 60604, Telephone Number: (312) 886-6524, E-Mail Address: rau.matthew@epa.gov.

SUPPLEMENTARY INFORMATION: Throughout this document wherever “we,” “us,” or “our” are used we mean the EPA.

Table of Contents

I. What is the EPA approving?

II. What are the changes from the current rules?

III. What supporting materials did Indiana provide?

IV. What are the environmental effects of these actions?

V. EPA rulemaking actions

VI. Administrative requirements

I. What Is the EPA Approving?

The EPA is approving revisions to Indiana's SIP for particulate matter regulations for Rolls-Royce Allison in Marion County, Indiana. IDEM submitted the revised regulation on August 31, 2000 as an amendment to rule 326 IAC 6-1-12.

The revisions consist of a name change for the company and the addition of landfill gas as an alternate fuel. Rolls-Royce Allison was formerly the Allison Engine Company. There is no change to the PM emissions limits.

II. What Are the Changes From the Current Rules?

The company has changed its name from Allison Engine Company to Rolls-Royce Allison.

Indiana has approved the addition of landfill gas as an alternate fuel. Landfill gas can fuel boilers 1 through 4 of plant 5 in place of coal, #2 fuel oil, #4 fuel oil, or natural gas. For boilers 3, 4, and 7 through 10 of plant 8, landfill gas can substitute for #6 fuel oil, #4 fuel oil, #2 fuel oil, and natural gas. Each cubic foot of landfill gas burned reduces the allowed amount of #4 fuel oil (37,142,800 gallons) by 0.00116 gallons.

III. What Supporting Materials Did Indiana Provide?

Indiana provided public hearing testimony from a Rolls-Royce official. According to this testimony, the landfill gas project will reduce nitrogen oxides emissions by 12.6 tons per year (TPY) from the Rolls-Royce facility and 17 TPY from the nearby Southside Landfill. The landfill gas is being flared on-site. The particulate matter emissions will not increase. Landfill gas use will reduce the burning of fossil fuels.

Rolls-Royce Allison found the heating value of the landfill gas is approximately 512 British Thermal Units per cubic foot (BTU/ft³). Using an emissions factor of 0.014 pounds per million British Thermal Units (lb/MMBTU), the maximum particulate emissions from burning landfill gas, measured as total suspended particulate (TSP), is about 115 TPY. This is below the current particulate matter emissions limit of 130 TPY of TSP.

IV. What Are the Environmental Effects of These Actions?

This SIP revision will result in no increase of particulate matter emissions from Rolls-Royce Allison. The use of landfill gas may even decrease PM emissions. Burning landfill gas instead of fossil fuels also creates a reduction in emissions of nitrogen oxides. Nitrogen oxides are precursor pollutants to ground-level ozone and fine particulate formation. Also, the use of landfill gas in place of coal or fuel oil should reduce sulfur oxide emissions. Sulfur oxides emissions lead to acid rain and fine particulate matter. Emissions of methane, a known greenhouse gas, to the atmosphere from the landfill will be reduced by approving these actions.

V. EPA Rulemaking Actions

The EPA is approving, through direct final rulemaking, revisions to the particulate matter emissions regulations for Rolls-Royce Allison in Marion County, Indiana. These revisions change the name of the Allison Engine Company to Rolls-Royce Allison. These revisions also include the addition of landfill gas as alternate fuel. Landfill gas can fuel boilers 1 through 4 of plant 5 in place of coal, #2 fuel oil, #4 fuel oil, or natural gas. For boilers 3, 4, and 7 through 10 of plant 8, landfill gas can substitute for #6 fuel oil, #4 fuel oil, #2 fuel oil, and natural gas. Each cubic foot of landfill gas burned reduces the allowed amount of #4 fuel oil (37,142,800 gallons) by 0.00116 gallons. Boilers 5 and 6 of plant 8 may not operate.

We are publishing this action without a prior proposal because we view these as noncontroversial revisions and anticipate no adverse comments. However, in the “Proposed Rules” section of today's Federal Register, we are publishing a separate document that will serve as the proposal to approve the SIP revision if adverse comments are filed. This rule will be effective on August 13, 2001 without further notice unless we receive relevant adverse written comment by July 12, 2001. If the EPA receives adverse comment, we will publish a final rule informing the public that this rule will not take effect. We will address all public comments in a subsequent final rule based on the proposed rule. The EPA does not intend to institute a second comment period on this action. Any parties interested in commenting on these actions must do so at this time.

VI. Administrative Requirements

Under Executive Order 12866 (58 FR 51735, October 4, 1993), this action is not a “significant regulatory action” and therefore is not subject to review by the Office of Management and Budget. This action merely approves state law as meeting federal requirements and imposes no additional requirements beyond those imposed by state law. Accordingly, the Administrator certifies that this rule will not have a significant economic impact on a substantial number of small entities under the Regulatory Flexibility Act (5 U.S.C. 601 et seq.). Because this rule approves pre-existing requirements under state law and does not impose any additional enforceable duty beyond that required by state law, it does not contain any unfunded mandate or significantly or uniquely affect small governments, as described in the Unfunded Mandates Reform Act of 1995 (Public Law 104-4). This rule also does not have a substantial direct effect on one or more Indian tribes, on the relationship between the Federal Government and Indian tribes, or on the distribution of power and responsibilities between the Federal Government and Indian tribes, as specified by Executive Order 13175 (65 FR 67249, November 9, 2000), nor will it have substantial direct effects on the States, on the relationship between the national government and the States, or on the distribution of power and responsibilities among the various levels of government, as specified in Executive Order 13132 (64 FR 43255, August 10, 1999), because it merely approves a state rule implementing a federal standard, and does not alter the relationship or the distribution of power and responsibilities established in the Clean Air Act. This rule also is not subject to Executive Order 13045 (62 FR 19885, April 23, 1997), because it is not economically significant.

In reviewing SIP submissions, EPA's role is to approve state choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. As required by section 3 of Executive Order 12988 (61 FR 4729, February 7, 1996), in issuing this rule, EPA has taken the necessary steps to eliminate drafting errors and ambiguity, minimize potential litigation, and provide a clear legal standard for affected conduct. EPA has complied with Executive Order 12630 (53 FR 8859, March 15, 1988) by examining the takings implications of the rule in accordance with the “Attorney General's Supplemental Guidelines for the Evaluation of Risk and Avoidance of Unanticipated Takings' issued under the executive order. This rule does not impose an information collection burden under the provisions of the Paperwork Reduction Act of 1995 (44 U.S.C. 3501 et seq.).

The Congressional Review Act, 5 U.S.C. section 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. section 804(2). This rule will be effective August 13, 2001 unless EPA receives adverse written comments by July 12, 2001.

Under section 307(b)(1) of the Clean Air Act, petitions for judicial review of this action must be filed in the United States Court of Appeals for the appropriate circuit by August 13, 2001. Filing a petition for reconsideration by the Administrator of this final rule does not affect the finality of this rule for the purposes of judicial review nor does it extend the time within which a petition for judicial review may be filed, and shall not postpone the effectiveness of such rule or action. This action may not be challenged later in proceedings to enforce its requirements. (See section 307(b)(2).)

List of Subjects in 40 CFR Part 52

Environmental protection, Air pollution control, Incorporation by reference, Intergovernmental relations, Particulate matter.

Dated: May 9, 2001.
Norman Neidergang,
Acting Regional Administrator, Region 5.

For the reasons stated in the preamble, part 52, chapter I, title 40 of the Code of Federal Regulations is amended as follows:

PART 52—[AMENDED]

1. The authority citation for part 52 continues to read as follows:

Authority: 42 U.S.C. 7401 et seq.

Subpart P—Indiana

2. Section 52.770 is amended by adding paragraph (c)(140) to read as follows:

§ 52.770 Identification of plan.

* * * * *

(c) * * *

(140) On August 31, 2000, Indiana submitted revised particulate matter emissions regulations for Rolls-Royce Allison in Marion County, Indiana. The submittal amends 326 IAC 6-1-12(a). It includes a name change for the company from the Allison Engine Company to Rolls-Royce Allison and the addition of an alternate fuel, landfill gas. Landfill gas can be used in boilers 1 through 4 of plant 5 and boilers 3, 4, and 7 through 10 of plant 8. These state implementation plan revisions do not change the particulate matter emissions limits.

(i) Incorporated by reference. Amendments to Indiana Administrative Code Title 326: Air Pollution Control Board, Article 6: Particulate Rules, Rule 1: Non-attainment Area Limitations, Section 12: Marion County, subsection (a). Filed with the Secretary of State on May 26, 2000 and effective on June 25, 2000. Published in 23 Indiana Register 2419 on July 1, 2000.

[FR Doc. 01-14610 Filed 6-11-01; 8:45 am]

BILLING CODE 6560-50-P